AGENCY FOR INTERNATIONAL DEVELOPMENT

Notice of Meeting

Pursuant to the Federal Advisory Committee Act, notice is hereby given of a meeting of the Advisory Committee on Voluntary Foreign Aid (ACVFA).

Date: September 12, 2001 (9 a.m. to 5 p.m.).

Location: Marriott Metro Center, 775 12th Street, NW., Washington, DC 20005.

This meeting will focus on USAID's strategies in conflict prevention, procurement reform and HIV/AIDS.

The meeting is free and open to the public. Persons wishing to attend the meeting contact Rhonda Fagan at (202) 204-3088, fax (202) 204-3089 or email <rfagan@datexinc.com>.

Dated: August 3, 2001.
Noreen O'Meara,
Executive Director, Advisory Committee on Voluntary Foreign Aid (ACVFA).

[FR Doc. 01-20639 Filed 8-15-01; 8:45 am]

BILLING CODE 6116-01-M